DEPARTMENT OF LABOR

Employment and Training Administration

[TA-W-80,041]

Quad/Graphics, a Subdivision of Quad Graphics, Inc., Including On-Site Leased Workers From SPS Temporaries, Depew, NY; Notice of Termination of Investigation

Pursuant to Section 221 of the Trade Act of 1974, as amended, an investigation was initiated in response to a petition filed on March 15, 2011, on behalf of workers of Quad/Graphics, a Subdivision of Quad Graphics, Inc., Depew, New York. The negative determination was published in the Federal Register on July 8, 2011 (76 FR 40402). The worker group includes on-site leased workers from SPS Temporaries.

As required by the Trade Adjustment Assistance (TAA) Extension Act of 2011 (the TAAEA), the investigation into this petition was reopened for a reconsideration investigation to apply the requirements for worker group eligibility under chapter 2 of title II of the Trade Act of 1974, as amended by the TAAEA, to the facts of this petition.

The worker group on whose behalf the petition was filed is covered under a certification (TA-W-73,441G) applicable to workers and former workers of Quad Graphics, Inc., a wholly-owned subdivision of Quad Graphics, Inc., including leased workers from SPS Temporaries, Depew, New York, who were totally or partially separated or threatened with such separation from February 9, 2009 through September 27, 2013. Consequently, the investigation has been terminated.

Signed in Washington, DC, this 20th day of January, 2012.
Del Min Amy Chen,
Certifying Officer, Office of Trade Adjustment Assistance.

[FR Doc. 2012-3326 Filed 2-13-12; 8:45 am]

BILLING CODE ;P